DEPARTMENT OF TRANSPORTATION

Federal Aviation Administration

14 CFR Part 39

[Docket No. FAA-2015-3148; Directorate Identifier 2014-NM-254-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A320-212, -214, -232, and -233 airplanes. This proposed AD was prompted by a report of a crack found during an inspection of the pocket radius of the fuselage frame. This proposed AD would require repetitive low frequency eddy current inspections or repetitive high frequency eddy current inspections of this area, and repair if necessary. The repair terminates the repetitive inspections. We are proposing this AD to detect and correct any cracking of the pocket radius, which could lead to in-flight decompression of the airplane and possible injury to the passengers.

DATES: We must receive comments on this proposed AD by October 13, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-3148; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2015-3148; Directorate Identifier 2014-NM-254-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0278, dated December 19, 2014 (referred to after this as the Mandatory Continuing Airworthiness Information, or “the MCAI”), to correct an unsafe condition for certain Airbus Model A320-212, -214, -232, and -233 airplanes. The MCAI states:

An operator reported finding a crack during an inspection in accordance with the instructions of Airbus Alert Operators Transmission (AOT) A53N007-14. What was found, a 170 mm through-thickness crack in the pocket radius between frame 36 and 37 above stringer 6 on left hand (LH) side lap joint, was not the aim of the AOT inspection. Prior to this finding, the operator reported noise in the affected area during several weeks.

This condition, if not detected and corrected, could lead to in-flight decompression of the aeroplane, possibly resulting in injury to occupants.

To address this unsafe condition, Airbus published AOT A53N009-14 to provide inspection and repair instructions to detect and prevent crack propagation.

EASA decided to agree on a sampling inspection to determine whether additional aeroplanes need to be inspected.

For the reasons described above, this [EASA] AD requires, for the selected aeroplanes, repetitive Low Frequency Eddy Current (LFEC) or High Frequency Eddy Current (HFEC) inspections of the pocket radii [for cracks] located between fuselage frames 35 and 40, above stringer 6 on both LH and right hand (RH) sides and, depending on findings, accomplishment of repair instructions.

This [EASA] AD is considered an interim action and further [EASA] AD action may follow.

You may examine the MCAI in the AD docket on the Internet at http://www.regulations.gov by searching for and locating Docket No. FAA-2015-3148.

Related Service Information Under 1 CFR Part 51

We reviewed Airbus Alert Operators Transmission A53N009-14, dated December 17, 2014. The service information describes procedures for repetitive inspections of the pocket radii located between fuselage frames 35 and 40, above stringer 6 on both the left- and right-hand sides, and repair if necessary. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 1 airplane of U.S. registry.

We also estimate that it would take about 3 work-hours per product to comply with the basic requirements of this proposed AD. The average labor rate is $85 per work-hour. Based on these figures, we estimate the cost of this proposed AD on U.S. operators to be $255, or $255 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-3148; Directorate Identifier 2014-NM-254-AD.

(a) Comments Due Date

We must receive comments by October 13, 2015.

(b) Affected ADs

None.

(c) Applicability

This AD applies to Airbus Model A320-212 airplanes having manufacturer serial number (MSN) 1011; Airbus Model A320-214 airplanes having MSNs 1009, 1026 and 1030; Airbus Model A320-232 airplanes having MSN 0977; and Airbus Model A320-233 airplanes having MSNs 1007 and 1013, certificated in any category.

(d) Subject

Air Transport Association (ATA) of America Code 53, Fuselage.

(e) Reason

This AD was prompted by a report of a crack found during an inspection of the pocket radius of the fuselage frame. We are issuing this AD to detect and correct any cracking of the pocket radius, which could lead to in-flight decompression of the airplane and possible injury to the passengers.

(f) Compliance

Comply with this AD within the compliance times specified, unless already done.

(g) Repetitive Inspections

(1) Within 750 flight cycles or 4 months, whichever occurs first after the effective date of this AD: Do a low frequency eddy current (LFEC) inspection or a high frequency eddy current (HFEC) inspection for cracking of the pocket radii located between fuselage frames 35 and 40, above stringer 6 on both the left- and right-hand sides, in accordance with the instructions of Airbus Alert Operators Transmission (AOT) A53N009-14, dated December 17, 2014. Repeat the inspection, thereafter, at intervals not to exceed the times specified in paragraphs (g)(1)(i) and (g)(1)(ii) of this AD.

(i) For the LFEC inspection performed on the outside: Repeat the inspection at intervals not to exceed 1,000 flight cycles.

(ii) For the HFEC inspection performed on the inside: Repeat the inspection at intervals not to exceed 2,000 flight cycles.

(h) Corrective Action

If, during any inspection required by paragraph (g) of this AD, any crack is found, before further flight, accomplish the repair in accordance with the instructions of Airbus AOT A53N009-14, dated December 17, 2014; except if the crack is beyond the structural repair manual limits as specified in Airbus AOT A53N009-14, dated December 17, 2014, before further flight, repair using a method approved by the Manager, International Branch, ANM-116, Transport Airplane Directorate, FAA; or the European Aviation Safety Agency (EASA); or Airbus's EASA Design Organization Approval (DOA).

(i) Terminating Action

Repair of an airplane as required by paragraph (h) of this AD terminates the repetitive inspections required by paragraph (g) of this AD for the repaired area only.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(k) Related Information

(1) Refer to Mandatory Continuing Airworthiness Information (MCAI) EASA Airworthiness Directive 2014-0278, dated December 19, 2014, for related information. This MCAI may be found in the AD docket on the Internet at http://www.regulations.gov by searching for and locating Docket No. FAA-2015-3148.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on August 19, 2015.
Kevin Hull,
Acting Manager, Transport Airplane Directorate, Aircraft Certification Service.

[FR Doc. 2015-21098 Filed 8-26-15; 8:45 am]

BILLING CODE 4910-13-P